DEPARTMENT OF TRANSPORTATION

Federal Aviation Administration

14 CFR Part 39

[Docket No. 2000-NM-32-AD; Amendment 39-13846; AD 2004-22-18]

RIN 2120-AA64

Airworthiness Directives; McDonnell Douglas Model MD-11 and -11F Airplanes

AGENCY: Federal Aviation Administration, DOT.

ACTION: Final rule.

SUMMARY: This amendment adopts a new airworthiness directive (AD), applicable to certain McDonnell Douglas Model MD-11 and -11F airplanes, that requires an inspection of the auto throttle servo (ATS) assembly and corrective actions if necessary. The actions specified by this AD are intended to prevent electrical shorting of the brake coils of the ATS, which could result in smoke in the cockpit and/or passenger cabin. This action is intended to address the identified unsafe condition.

DATES: Effective December 14, 2004.

The incorporation by reference of certain publications listed in the regulations is approved by the Director of the Federal Register as of December 14, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) to include an airworthiness directive (AD) that is applicable to certain McDonnell Douglas Model MD-11 and -11F airplanes was published as a supplemental notice of proposed rulemaking (NPRM) in the Federal Register on July 13, 2004 (69 FR 41985). That action proposed to require an inspection of the auto throttle servo assembly and corrective actions if necessary.

Comments

We provided the public the opportunity to participate in the development of this AD. No comments have been submitted on the proposed AD or on the determination of the cost to the public.

Conclusion

We have carefully reviewed the available data and determined that air safety and the public interest require adopting the AD as proposed.

Cost Impact

There are about 195 McDonnell Douglas Model MD-11 and -11F airplanes of the affected design in the worldwide fleet. We estimate that 62 airplanes of U.S. registry will be affected by this AD, that it will take about 1 work hour per airplane to accomplish the inspection, and that the average labor rate is $65 per work hour. Based on these figures, the cost impact of the inspection required by this AD on U.S. operators is estimated to be $4,030, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-22-18 McDonnell Douglas: Amendment 39-13846. Docket 2000-NM-32-AD.

Applicability: Model MD-11 and -11F airplanes, as listed in Boeing Service Bulletin MD11-22-026, dated December 19, 2003; certificated in any category.

Compliance: Required as indicated, unless accomplished previously.

To prevent electrical shorting of the brake coils of the auto throttle servo (ATS), which could result in smoke in the cockpit and/or passenger cabin, accomplish the following:

Inspect ATS

(a) Within 36 months after the effective date of this AD, do an inspection to determine the part number (P/N) of the ATS assembly of the servo assembly of the TCM, in accordance with the Accomplishment Instructions of Boeing Service Bulletin MD11-22-026, dated December 19, 2003.

Corrective Actions

(b) Before further flight after doing the inspection required by paragraph (a) of this AD, do the applicable corrective action(s) specified in “Table-Corrective Actions,” in accordance with Boeing Service Bulletin MD11-22-026, dated December 19, 2003.

Table.—Corrective Actions
If— | Then—
(1) P/N 4059004-903 is installed | Reidentify the TCM assembly.
(2) P/N 4059004-903 is not installed | Replace the existing ATS assembly of the TCM assembly with a new ATS assembly, and reidentify the TCM assembly; or return TCM assembly to Boeing for modification and reidentification.

Parts Installation

(c) As of the effective date of this AD, no person shall install a thrust control module assembly having part number ABH7760-1, ABH7760-501, ABH7760-503, SR11761001-3, SR11761001-5, SR11761001-7, SR11270022-3, SR11761001-9, SR11270022-5, or SR11761001-11, on any airplane.

Alternative Methods of Compliance

(d) In accordance with 14 CFR 39.19, the Manager, Los Angeles Aircraft Certification Office, FAA, is authorized to approve alternative methods of compliance for this AD.

Incorporation by Reference

(e) The actions shall be done in accordance with Boeing Service Bulletin MD11-22-026, dated December 19, 2003. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; at the FAA, Los Angeles Aircraft Certification Office, 3960 Paramount Boulevard, Lakewood, California; or at the National Archives and Records Administration (NARA). For information on the availability of this material at NARA, call (202) 741-6030, or go to: http://www.archives.gov/­federal_register/­code_of_federal_regulations/­ibr_locations.html.

Effective Date

(f) This amendment becomes effective on December 14, 2004.

Issued in Renton, Washington, on October 25, 2004.
Ali Bahrami,
Manager, Transport Airplane Directorate, Aircraft Certification Service.

[FR Doc. 04-24621 Filed 11-8-04; 8:45 am]

BILLING CODE 4910-13-U